FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Web site (http://www.fmc.gov) or contacting the Office of Agreements at (202) 523-5793 or tradeanalysis@fmc.gov.

Agreement No.: 011353-034.

Title: The Credit Agreement.

Parties: APL Co. PTE Ltd.; Crowley Latin America Services, LLC; Dole Ocean Cargo Express; King Ocean Services de Venezuela/King Ocean Services Limited; Seaboard Marine of Florida, Inc.; and Seaboard Marine Ltd.

Filing Party: Wayne R. Rohde, Esq.; Sher & Blackwell LLP; 1850 M Street, NW., Suite 900, Washington, DC 20036.

Synopsis: The amendment deletes Crowley Liner Services, Inc. as a party to the Agreement, replacing it with Crowley Latin America Services, LLC, and deletes A.P. Moller-Maersk A/S, Evergreen Line Joint Service Agreement, and Caribbean General Maritime, Ltd. as parties to the Agreement.

Agreement No.: 011579-015.

Title: Inland Shipping Service Association Agreement.

Parties: Crowley Latin America Services, LLC; Seaboard Marine, Ltd.; and Seaboard Marine of Florida, Inc.

Filing Party: Wayne R. Rohde, Esq.; Sher & Blackwell LLP; 1850 M Street, NW., Suite 900, Washington, DC 20036.

Synopsis: The amendment deletes Crowley Liner Services, Inc. as a party to the Agreement and replaces it with Crowley Latin America Services, LLC.

Agreement No.: 012037-001.

Title: Maersk Line/CMA CGM TA3 Space Charter Agreement.

Parties: A.P. Moeller-Maersk A/S and CMA CGM S.A.

Filing Party: Wayne R. Rohde, Esq.; Sher & Blackwell LLP; 1850 M Street, NW., Suite 900; Washington, DC 20036.

Synopsis: The amendment reduces the amount of space being chartered, extends the duration of the agreement, revises the notice required for resignation, and incorporates other miscellaneous changes.

Agreement No.: 012064.

Title: Hapag-Lloyd/NYK Mexico-Dominican Republic Slot Exchange Agreement.

Parties: Hapag-Lloyd AG and Nippon Yusen Kaisha.

Filing Party: Wayne R. Rohde, Esq.; Sher & Blackwell LLP; 1850 M Street, NW., Suite 900; Washington, DC 20036.

Synopsis: The agreement authorizes the parties to exchange slots on their services in the trades between ports on the East and Gulf Coasts of the United States and ports on the Caribbean Coast of Mexico and Dominican Republic.

Dated: March 5, 2009.
By Order of the Federal Maritime Commission.
Karen V. Gregory,
Secretary.

[FR Doc. E9-5126 Filed 3-10-09; 8:45 am]

BILLING CODE 6730-01-P